INTERNATIONAL TRADE COMMISSION

[USITC SE-15-029]

Government in the Sunshine Act Meeting Notice

AGENCY HOLDING THE MEETING: United States International Trade Commission.

TIME AND DATE: September 15, 2015 at 11:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-523 and 731-TA-1259 (Final) (Boltless Steel Shelving Units Prepackaged for Sale from China). The Commission is currently scheduled to complete and file its determinations and views of the Commission on September 28, 2015.

5. Outstanding action jackets: None

In accordance with Commission policy, subject matter listed above, not disposed of at the scheduled meeting, may be carried over to the agenda of the following meeting. Earlier notification of this meeting was not possible.

By order of the Commission.
Issued: September 9, 2015.
William R. Bishop,
Supervisory Hearings and Information Officer.

[FR Doc. 2015-23044 Filed 9-9-15; 4:15 pm]

BILLING CODE 7020-02-P